COMMODITY FUTURES TRADING COMMISSION

Sunshine Act Meeting

Agency Holding the Meeting: Commodity Futures Trading Commission.

Time and Date: 11:00 a.m., Friday, July 19, 2002.

Place: 1155 21st St., NW., Washington, DC, 9th Floor Conference Room.

Status: Closed.

Matters to be Considered: Surveillance Matters.

Contact Person For More Information: Jean A. Webb, 202-418-5100.

Jean A. Webb,
Secretary of the Commission.

[FR Doc. 02-15538 Filed 6-17-02; 9:10 am]

BILLING CODE 6351-01-M